DEPARTMENT OF ENERGY

Federal Energy Regulatory Commission

[Docket No. RP00-453-000]

Mississippi Canyon Gas Pipeline, LLC; Notice of Proposed Changes in FERC Gas Tariff

August 16, 2000.

Take notice that on August 9, 2000, Mississippi Canyon Gas Pipeline, LLC (MCGP) tendered for filing the following tariff sheet to be effective September 1, 2000:

Third Revised Sheet No. 57

The sole purpose of this filing is to reflect a change in the World Wide Web address for Mississippi Canyon's Internet Web Site. The new address is www.shell-gt.com. This change is necessitated to better align the website address with a recent corporate name change.

Any person desiring to be heard or to protest said filing should file a motion to intervene or a protest with the Federal Energy Regulatory Commission, 888 First Street, NE., Washington, DC 20426, in accordance with Sections 385.214 or 385.211 of the Commission's Rules and Regulations. All such motions or protests must be filed as provided in Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21292 Filed 8-21-00; 8:45 am]

BILLING CODE 6717-01-M